DEPARTMENT OF AGRICULTURE

Forest Service

Information Collection; Timber Purchaser Cost and Sales Data

AGENCY: Forest Service, USDA.

ACTION: Notice; request for comment.

SUMMARY: In accordance with the Paperwork Reduction Act of 1995, the Forest Service is seeking comments from all interested individuals and organizations on the extension of a currently approved information collection, Timber Purchaser Cost and Sales Data.

DATES: Comments must be received in writing on or before May 7, 2010 to be assured of consideration. Comments received after that date will be considered to the extent practicable.

ADDRESSES: Comments concerning this notice should be addressed to Forest Management, Attn: Richard Fitzgerald, Mail Stop 1103, Forest Service, USDA, 1400 Independence Avenue, SW., Washington, DC 20250-1103.

Comments also may be submitted via facsimile to 202-205-1045 or by e-mail to: cost_collecting@fs.fed.us.

The public may inspect comments received at the Office of the Director, Forest Management Staff, Forest Service, USDA, Room 3 NW., Yates Building, 1400 Independence Avenue, SW., Washington, DC. Visitors are encouraged to call ahead to 202-205-1496 to facilitate entry into the building.

FOR FURTHER INFORMATION CONTACT: Richard Fitzgerald, Timber Staff, Forest Management at 202-205-1753. Individuals who use TDD may call the Federal Relay Service (FRS) at 1-800-877-8339, 24 hours a day, every day of the year, including holidays.

SUPPLEMENTARY INFORMATION: Title: Timber Purchaser Cost and Sales Data.

OMB Number: 0596-0017.

Expiration Date of Approval: June 30, 2010.

Type of Request: Extension of a currently approved collection.

Abstract: The Forest Service sells timber and other forest products on national forest lands to achieve policies set forth in the Multiple-Use Sustained Yield Act of 1960, and the Forest and Rangeland Renewable Resources Planning Act of 1974. Timber must not be sold for less than the appraised value (Pub. L. 94-588). The Forest Service may not sell timber below a minimum stumpage rate established by the Chief of the Forest Service, ensuring that timber sales recover some of the costs associated with preparation and administration of timber sales.

Forest Service timber appraisers develop advertised prices using transaction evidence or a residual value form of appraisal. The Forest Service collects and uses the following to develop transaction evidence and residual value appraisal systems: (1) Product value, (2) manufacturing cost, (3) falling and bucking costs, (4) skidding and loading costs, and (5) hauling costs.

In many areas, the Forest Service purchases lumber product values from the Western Wood Products Association. The Forest Service, via contracting officers, also collects data from timber purchasers and uses it to develop fair market average value and cost information for appraisals, as well as advertised prices for national forest timber. Forest Service staff at the Albuquerque Service Center analyzes the data. All data collected is subject to verification.

Standard timber sale contract forms FS-2400-6 and FS-2400-6T contain a provision requiring timber purchasers to furnish data to the Forest Service upon request. The Forest Service consulted with several timber industry groups during the development of this standard contract provision, including but not limited to: Western Wood Products Association, National Forest Products Association, Western Forest Industries Association, and Industrial Forestry Association.

States and other agencies also use the data in appraisals. Additionally, timber purchasers rely upon cost collection to help with independent appraisals of Federal timber and to estimate the cost of subcontracting aspects of Federal timber harvest activities.

The data is collected from various sources, ranging from paper to electronic media. The Forest Service does not provide forms for the collection of this data. Some firms mail the data to the Forest Service, others provide access to records and duplication equipment, and some firms provide on-site access to electronic data. Data gathered is not available from other sources.

Estimate of Annual Burden: 1 hour per request.

Type of Respondents: Timber sale purchasers.

Estimated Annual Number of Respondents: 20.

Estimated Annual Number of Responses per Respondent: 1.

Estimated Total Annual Burden on Respondents: 20 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. All comments received in response to this notice, including names and addresses when provided, will be a matter of public record. Comments will be summarized and included in the request for Office of Management and Budget approval.

Dated: March 2, 2010.
Faye L. Krueger,
Acting Associate Deputy Chief, NFS.

[FR Doc. 2010-4810 Filed 3-5-10; 8:45 am]

BILLING CODE 3410-11-P